DEPARTMENT OF DEFENSE

[DOD-2006-OS-57]

National Reconnaissance Office; Privacy Act of 1974; System of Records

AGENCY: National Reconnaissance Office.

ACTION: Notice to add systems of records.

SUMMARY: The National Reconnaissance Office is proposing to add a system of records to its inventory of record system subject to the Privacy Act of 1974, (5 U.S.C. 552a), as amended.

DATES: This proposed action will be effective without further notice on May 4, 2006 unless comments are received which result in a contrary determination.

ADDRESSES: Send comments to the FOIA/Privacy Official, National Reconnaissance Office, Information Access and Release, 14675 Lee Road, Chantilly, VA 20151-1715.

FOR FURTHER INFORMATION CONTACT: Ms. Theresa Rosenbaum at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on March 23, 2006, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 28, 2006.
L.M. Bynum,
OSD Federal Register Liaison Officer, Department of Defense.

QNRO-25

System name:

Financial Management Systems.

System location:

Office of Business Plans and Operations, National Reconnaissance Office (NRO), 14675 Lee Road, Chantilly, VA 20151-175.

Categories of individuals covered by the system:

Government civilian employees, military personnel, and contractors.

Categories of records in the system:

Individual's name, social security number (SSN), vendor code, company, parent organization, home address, and home telephone number.

Authority for maintenance of the system:

50 U.S.C. 401 et seq.; 5 U.S.C. 301 Departmental Regulations; E.O. 9397 (SSN); E.O. 12958, as amended.

Purpose(s):

The purpose of this system is to record all NRO financial transactions pertaining to procurements, travel, financial data used to manage independent contractors for IRS Form 1099 reporting purposes; and preparation of the NRO annual financial statement audit.

Routine uses of records maintained in the system, including categories of users and the purposes of such uses:

In addition to those disclosures generally permitted under 5 U.S.C. 552a(b) of the Privacy Act, these records or information contained therein may specifically be disclosed outside the NRO as a routine use pursuant to 5 U.S.C. 552a(b)(3) as follows:

The DoD “Blanket Routines Uses” published at the beginning of the NRO compilation of systems of records notices apply to this system.

Policies and practices for storing, retrieving, accessing, retaining, and disposing of records in the system:

Storage:

Automated information system, maintained in computers and computer output products.

Retrievability

Individual's name, company, home address, social security number or vendor code.

Safeguards:

Records are stored in a secure, gated facility, guard, badge, and password access protected. Access to these records is controlled; those needing access must apply for an account. Access is role based. Separation of duties exists to ensure only those who should be privy to this information based on their job duties have access.

Retention and disposal:

Records are treated as permanent pending a determination by the National Archives and Records Agency of authority for disposition of the records.

System manager(s) and address:

Office of Business Plans and Operations, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include full name and any aliases or nicknames, address, Social Security Number, current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Execute on (date). (Signature).

Record access procedures:

Individuals seeking to access information about themselves contained in this system should address written inquiries to the National Reconnaissance Office, Information Access and Release Center, 14675 Lee Road, Chantilly, VA 20151-1715.

Request should include full name and any aliases or nicknames, address, Social Security Number, current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The NRO rules for accessing records, for contesting contents and appealing initial agency determinations are published in NRO Directive 110-3A and NRO Instruction 110-5A; 32 CFR part 326; or may be obtained from the Privacy Act Coordinator, National Reconnaissance Office, 14675 Lee road, Chantilly, VA 20151-1715.

Record source categories:

Information is supplied by the individual and through documentation.

Exemptions claimed for the system:

None.

[FR Doc. 06-3202 Filed 4-3-06; 8:45 am]

BILLING CODE 8001-06-M